DEPARTMENT OF LABOR

Employment and Training Administration

[TA-W-37,702]

Spencer's Inc., Mt. Airy, NC; Amended Certification Regarding Eligibility To Apply for Worker Adjustment Assistance

In accordance with Section 223 of the Trade Act of 1974 (19 USC 2273) the Department of Labor issued a Notice of Certification Regarding Eligibility to Apply for Worker Adjustment Assistance on June 9, 2000, applicable to all workers of Spencer's Inc., Mt. Airy, North Carolina. The notice was published in the Federal Register on June 29, 2000 (65 FR 40136).

At the request of the State agency, the Department reviewed the certification for workers of the subject firm. Findings on review show that the Department incorrectly set the impact date at April 27, 1999. The workers at the subject firm were covered under an earlier certification, TA-W-34,023B, which expired December 21, 1999. In order to avoid an overlap in coverage, the Department is amending this certification to set the impact date at December 22, 1999.

The amended notice applicable to TA-W-37,702 is hereby issued as follows:

All workers of Spencer's Inc., Mt. Airy, North Carolina, engaged in employment related to the production of infant's and children's wear who became totally or partially separated from employment on or after December 22, 1999, through June 9, 2002, are eligible to apply for adjustment assistance under Section 223 of the Trade act of 1974.

Signed in Washington, DC, this 6th day of September 2000.
Edward A. Tomchick,
Director, Division of Trade Adjustment Assistance.

[FR Doc. 00-23928 Filed 9-15-00; 8:45 am]

BILLING CODE 4510-3-M